DEPARTMENT OF COMMERCE

Foreign-Trade Zones Board

[Order No. 1993]

Grant of Authority; Establishment of a Foreign-Trade Zone Under the Alternative Site Framework; Central Pennsylvania

Pursuant to its authority under the Foreign-Trade Zones Act of June 18, 1934, as amended (19 U.S.C. 81a-81u), the Foreign-Trade Zones Board (the Board) adopts the following Order:

Whereas, the Foreign-Trade Zones Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR Sec. 400.2(c)) as an option for the establishment or reorganization of zones;

Whereas, the Pennsylvania Foreign-Trade Zone Corporation (the Grantee) has made application to the Board (B-7-2015, docketed February 5, 2015), requesting the establishment of a foreign-trade zone under the ASF with a service area of Bedford, Blair, Cambria, Centre, Fulton, Huntingdon and Somerset Counties, Pennsylvania, adjacent to the Pittsburgh and Harrisburg Customs and Border Protection ports of entry;

Whereas, notice inviting public comment has been given in the Federal Register (80 FR 8059, February 13, 2015) and the application has been processed pursuant to the FTZ Act and the Board's regulations; and,

Whereas, the Board adopts the findings and recommendations of the examiner's report, and finds that the requirements of the FTZ Act and the Board's regulations are satisfied if approval of the service area is limited to Bedford, Blair and Cambria Counties;

Now, therefore, the Board hereby grants to the Grantee the privilege of establishing a foreign-trade zone with a service area of Bedford, Blair and Cambria Counties, designated on the records of the Board as Foreign-Trade Zone No. 295, subject to the FTZ Act and the Board's regulations, including Section 400.13, and to the Board's standard 2,000-acre activation limit.

Signed at Washington, DC, this 4 day of January 2016.
Penny Pritzker,
Secretary of Commerce, Chairman and Executive Officer, Foreign-Trade Zones Board.
ATTEST:
Andrew McGilvray,
Executive Secretary.

[FR Doc. 2016-01035 Filed 1-19-16; 8:45 am]

BILLING CODE 3510-DS-P